FEDERAL COMMUNICATIONS COMMISSION

[AU Docket No. 14-252; GN Docket No. 12-268; WT Docket No. 12-269; DA 15-1296]

Incentive Auction Task Force Releases Revised Baseline Data and Prices for Reverse Auction; Announces Revised Filing Window Dates

AGENCY: Federal Communications Commission.

ACTION: Notice.

SUMMARY: This document announces revisions to the baseline data, opening bid prices and revises FCC Form 177 and 175 filing windows requirements for Auction 1001 and Auction 1002 respectively.

DATES: Reverse Auction FCC Form 177 filing window opens 12 noon Eastern Time (ET) on December 8, 2015, and closes 6:00 p.m. ET on January 12, 2016; Forward Auction FCC Form 175 application filing window will open at 12 noon ET on January 26, 2016, and close at 6:00 p.m. ET on February 9, 2016.

FOR FURTHER INFORMATION CONTACT: Wireless Telecommunications Bureau, Auctions and Spectrum Access Division: For general reverse auction questions: Erin Griffith or Kathryn Hinton at (202) 418-0660.

SUPPLEMENTARY INFORMATION: This is a summary of the Revised Baseline Data and Opening Prices for Auction 1001 Public Notice (Auction 1001 Baseline Data PN), AU Docket No. 14-252, GN Docket No. 12-268, WT Docket No. 12-269, and DA 15-1296, released on November 12, 2015. The complete text of the Auction 1001 Baseline Data PN, including all attachments and associated appendices, is available for public inspection and copying from 8:00 a.m. to 4:30 p.m. ET Monday through Thursday or from 8:00 a.m. to 11:30 a.m. ET on Fridays in the FCC Reference Information Center, 445 12th Street SW., Room CY-A257, Washington, DC 20554. The complete text is also available on the Commission's Web site at http://wireless.fcc.gov, or by using the search function on the ECFS Web page at http://www.fcc.gov/cgb/ecfs/. Alternative formats are available to persons with disabilities by sending an email to FCC504@fcc.gov or by calling the Consumer & Governmental Affairs Bureau at (202) 418-0530 (voice), (202) 418-0432 (TTY).

1. The Incentive Auction Task Force (Task Force) revised the coverage area and population served of each television station to be protected in the repacking process, which was initially provided in Appendix I of the Auction 1000 Application Procedures Public Notice, 80 FR 66429, October 29, 2015. The revision corrected information for a small number of stations, and adjusts population data for stations that are affected by these corrections. The Task Force also updated the constraint files (http://data.fcc.gov/download/incentive-auctions/Constraint_Files/) that will be used in the repacking process to reflect these corrections and adjustments. The revised data will be used to determine feasible channel assignments for each station. These revisions serve the Commission's statutory mandate to “make all reasonable efforts” to preserve each station's coverage area and population served. The revised Appendix I listing is an attachment to the Auction 1001 Baseline Data PN and may be found on the Auction 1001 Web page: http://wireless.fcc.gov/auctions/incentive-auctions/auction-1001.html.

2. The Task Force also announced revised reverse auction opening bid prices in the Attachment to the Auction 1001 Baseline Data PN; these opening bid prices may be found on the Auction 1001 Web page: http://wireless.fcc.gov/auctions/incentive-auctions/auction-1001.html. The opening bid prices were recalculated to reflect the corrected baseline and constraint files. The opening bid prices were recalculated using the formula adopted by the Commission in the Auction 1000 Bidding Procedures PN, 80 FR 61918, October 14, 2015.

3. In order to provide broadcasters with at least 60 days after the release of the recalculated prices to evaluate whether to apply to voluntarily participate in the reverse auction in light of such prices, the Task Force revised the filing window for FCC Form 177, the reverse auction application form. Specifically, the FCC Form 177 filing window will open at 12:00 noon Eastern Time on December 8, 2015, and close at 6:00 p.m. Eastern Time on January 12, 2016. Applications must be filed prior to the closing of the filing window.

4. Given the revised reverse auction filing window, the Task Force revised the filing window for FCC Form 175, the forward auction application form. Specifically, the FCC Form 175 filing window will open at 12:00 noon Eastern Time on January 26, 2016, and close at 6:00 p.m. Eastern Time on February 9, 2016. Applications must be filed prior to the closing of the filing window.

Federal Communications Commission.
William Huber,
Associate Chief, Auctions and Spectrum Access Division, WTB.

[FR Doc. 2015-29792 Filed 11-19-15; 8:45 am]

BILLING CODE 6712-01-P